FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Interagency Notice of Change in Control, the Interagency Notice of Change in Director or Senior Executive Officer, and the Interagency Biographical and Financial Report (FR 2081a,b,c; OMB No. 7100-0134). The revisions are effective immediately.

FOR FURTHER INFORMATION CONTACT:

Federal Reserve Board Clearance Officer—Nuha Elmaghrabi—Office of the Chief Data Officer, Board of Governors of the Federal Reserve System, Washington, DC 20551, (202) 452-3829.

Office of Management and Budget (OMB) Desk Officer—Shagufta Ahmed—Office of Information and Regulatory Affairs, Office of Management and Budget, New Executive Office Building, Room 10235, 725 17th Street NW, Washington, DC 20503, or by fax to (202) 395-6974.

SUPPLEMENTARY INFORMATION: On June 15, 1984, OMB delegated to the Board authority under the PRA to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, With Revision, of the Following Information Collections

Report title: Interagency Notice of Change in Control.

Agency form number: FR 2081a.

OMB control number: 7100-0134.

Frequency: Event generated.

Respondents: All financial institutions regulated by the Board.

Estimated number of respondents: 162.

Estimated average hours per response: Reporting, 29.5; Disclosure, 1.

Estimated annual burden hours: Reporting, 4,779; Disclosure, 162.

General description of report: The FR 2081a is submitted in connection with the acquisition of shares of an insured depository institution, savings and loan holding company (SLHC), or bank holding company (BHC) (or group of BHCs or SLHCs) by an individual or a group of individuals or a company or group of companies that would not be BHCs or SLHCs after consummation of the proposed transaction. When the Board is the federal banking regulatory agency for the target organization, the notice must be submitted to the appropriate Reserve Bank. The notice must include a description of the proposed transaction, the purchase price and funding source, the personal and financial information of the proposed acquirer(s), and any proposed new management.

A FR 2081a filer must publish an announcement soliciting public comment on the proposed acquisition in a newspaper of general circulation in the community in which the head office of the depository institution or holding company is located. In the case of a BHC or SLHC, an announcement also must be published in each community in which the head office of a bank or savings association subsidiary of the holding company is located. A copy of the affidavit(s) of publication should be submitted to the appropriate Reserve Bank. The publication must (1) state the name and address of each person identified as an acquirer in the notice; (2) state the name of the bank or holding company to be acquired and each of its subsidiary banks; and (3) include a statement that interested persons may submit comments on the proposed transaction to the Board or the appropriate Reserve Bank. The newspaper notice must be published no more than 15 calendar days before and no later than 10 calendar days after the date that the application is filed with the appropriate Reserve Bank.

Report title: Interagency Notice of Change in Director or Senior Executive Officer.

Agency form number: FR 2081b.

OMB control number: 7100-0134.

Frequency: Event generated.

Respondents: All financial institutions regulated by the Board.

Estimated number of respondents: 119.

Estimated average hours per response: 2.

Estimated annual burden hours: 238.

General description of report: The FR 2081b is used, under certain circumstances, to notify the appropriate Reserve Bank of a proposed change to an institution's board of directors or senior executive officers. The notice must be filed if the institution is not in compliance with all minimum capital requirements, is in troubled condition, or is otherwise required by the Board to provide such notice. The reporting form may be filed by the relevant state member bank (SMB), SLHC, or BHC, or by the affected individual. The notice must include (1) details of the proposed transaction; (2) steps taken by the insured depository institution or holding company to investigate and satisfy itself as to the competence, experience, character, and integrity of the subject individual; (3) if the notice represents a proposal to serve as a senior executive officer of an insured depository institution or holding company, a description of the duties and responsibilities of the subject position and proposed terms of employment; and (4) if it is an after-the-fact notice, an identification of the exception to the prior notice requirement upon which the notificant relies or a discussion of the reasons that prior notice was not given and what steps have been taken to avoid future violations.

Report title: Interagency Biographical and Financial Report.

Agency form number: FR 2081c.

OMB control number: 7100-0134.

Effective Date: The revisions are effective immediately.

Frequency: Event generated.

Respondents: All financial institutions regulated by the Board.

Estimated number of respondents: 959.

Estimated average hours per response: 4.5.

Estimated annual burden hours: 4,316.

General description of report: The FR 2081c is used by certain shareholders, directors, and executive officers in connection with the FR 2081a and FR 2081b. Information requested on this reporting form is subject to verification and must be complete. As with all the notices and reporting forms, requests for clarification or supplementation of the original filing may be necessary.

Legal authorization and confidentiality: The FR 2081a and FR 2081c information collections are authorized by section 7(j) of the Federal Deposit Insurance Act, which states that “[n]o person . . . shall acquire control of any insured depository institution . . . unless the appropriate Federal banking agency has been given sixty days' prior written notice of such proposed acquisition” and requires the Federal Reserve to investigate the competence, experience, integrity, and financial ability of any such person.¹ The FR 2081a, FR 2081b, and FR 2081c information collections are authorized by section 914 of the Financial Institutions Reform, Recovery, and Enforcement Act (FIRREA), which provides that an insured depository institution or depository institution holding company shall notify the appropriate Federal banking agency of the proposed addition of any individual to the board of directors or the employment of any individual as a senior executive officer at least 30 days before such addition or employment becomes effective.²

¹ 12 U.S.C. 1817(j). The Board also has the authority to require reports from bank holding companies (12 U.S.C. 1844(c)), savings and loan holding companies (12 U.S.C. 1467a(b) and (g)), and state member banks (12 U.S.C. 248(a) and 324).

² 12 U.S.C. 1831i.

In addition to being used in conjunction with the FR 2081a and FR 2081b, the FR 2081c is used in conjunction with the FR 2070 and the Application to Become a Bank Holding Company and/or Acquire an Additional Bank or Bank Holding Company (FR Y-3; OMB No. 7100-0121). When used in conjunction with the FR 2070, the FR 2081c is authorized by section 18(c) of the Federal Deposit Insurance Act, which requires that a SMB, when it is the acquiring, assuming, or resulting bank, obtain prior approval from the Board before merging or consolidating with another insured depository institution, or assuming liability to pay any deposits made in any other depository institution, and requires the Board to consider the managerial resources and future prospects of the existing and proposed institutions.³ When used in conjunction with the FR Y-3, the FR 2081c is authorized by section 3(a) of the Bank Holding Company Act of 1956, which requires Board approval for formations, acquisitions, and mergers of bank holding companies, and requires the Board to consider the competence, experience, and integrity of the officers, directors, and principal shareholders of the company.⁴

³ 12 U.S.C. 1828(c).

⁴ 12 U.S.C. 1842.

The obligation to file these event-generated reports is mandatory. Individual respondents may request that information submitted to the Board through the FR 2081a, FR 2081b, or FR 2081c be kept confidential. If a respondent requests confidential treatment, the Board will determine whether the information is entitled to confidential treatment on a case-by-case basis. To the extent a respondent submits nonpublic commercial or financial information, which is both customarily and actually treated as private by the respondent, the respondent may request confidential treatment pursuant to exemption 4 of the Freedom of Information Act (FOIA).⁵ To the extent a respondent submits personnel, medical, or similar files, the disclosure of which would constitute an unwarranted invasion of privacy, the respondent may request confidential treatment pursuant to exemption 6 of the FOIA.⁶ The entity should separately designate any such information as “confidential commercial information” or “confidential financial information,” and the Board will treat such designated information as confidential to the extent permitted by law, including the FOIA. In addition, to the extent a respondent submits information related to examination, operating, or condition reports prepared by, on behalf of, or for the use of a financial supervisory agency, the information may be kept confidential pursuant to exemption 8 of the FOIA.⁷

⁵ 5 U.S.C. 552(b)(4).

⁶ 5 U.S.C. 552(b)(6).

⁷ 5 U.S.C. 552(b)(8).

Current actions: On December 23, 2020, the Board published a notice in the Federal Register (85 FR 83952) requesting public comment for 60 days on the extension, with revision, of the Interagency Notice of Change in Control, the Interagency Notice of Change in Director or Senior Executive Officer, and the Interagency Biographical and Financial Report. The Board revised the FR 2081c by correcting an inadvertent and unintentional numbering error from the previous clearance. As a result of this error, currently, a respondent is required to provide their telephone number and email address only if they are not a U.S. citizen or are a dual citizen. With the corrected numbering and delineation, the form will clearly require all respondents to provide their telephone number and email address. No changes were made to the FR 2081a or FR 2081b.

The comment period for this notice expired on February 22, 2021. The Board did not receive any comments. The revisions will be implemented as proposed.

Board of Governors of the Federal Reserve System, April 12, 2021.
Michele Taylor Fennell,
Deputy Associate Secretary of the Board.

[FR Doc. 2021-07791 Filed 4-15-21; 8:45 am]

BILLING CODE 6210-01-P